DEPARTMENT OF DEFENSE

Department of the Army

Availability for Non-Exclusive, Exclusive, or Partially Exclusive Licensing of U.S. Patent Application Concerning Protective Monoclonal Antibody Against Botulinum Neurotoxin Serotype F

AGENCY: U.S. Army Medical Research and Materiel Command, DoD.

ACTION: Notice.

SUMMARY: In accordance with 37 CFR 404.6, announcement is made of the availability for licensing of U.S. Patent Application Serial Number 08/504,969 entitled “Protective Monoclonal Antibody Against Botulinum Neurotoxin Serotype F”, filed July 20, 1995. This patent has been assigned to the United States Government as represented by the Secretary of the Army.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Paul Mele, Office of Research & Technology Assessment, (301) 619-6664. Both at telefax (301) 619-5034.

SUPPLEMENTARY INFORMATION: The subject application invention relates to a monoclonal antibody protective against botulinum neurotoxin serotype F, and to methods of preparation and use thereof.

Gregory D. Showalter,
Army Federal Register Liaison Officer.

[FR Doc. 00-21659 Filed 8-23-00; 8:45 am]

BILLING CODE 3710-08-U